DEPARTMENT OF THE INTERIOR

Fish and Wildlife Service

[FWS-R9-LE-2009-N168] [99011-1224-0000-9B]

Proposed Information Collection; OMB Control Number 1018-0012; Declaration for Importation or Exportation of Fish or Wildlife

AGENCY: Fish and Wildlife Service, Interior.

ACTION: Notice; request for comments.

SUMMARY: We (Fish and Wildlife Service, Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2010. We may not conduct or sponsor and a person is not required to respond to a collection of information unless it displays a currently valid OMB control number.

DATES: To ensure that we are able to consider your comments on this IC, we must receive them by October 13, 2009.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

The Endangered Species Act (16 U.S.C. 1531 et seq.) makes it unlawful to import or export fish, wildlife, or plants without filing a declaration or report deemed necessary for enforcing the Act or upholding the Convention on International Trade in Endangered Species (CITES) (see 16 U.S.C. 1538(e)). With a few exceptions, businesses or individuals importing into or exporting from the United States any fish, wildlife, or wildlife product must complete and submit to the Service an FWS Form 3-177 (Declaration for Importation or Exportation of Fish or Wildlife). This form as well as FWS Form 3-177a (Continuation Sheet) and instructions for completion are available for electronic submission at https://edecs.fws.gov. These forms are also available in hard copy at http://www.fws.gov/forms/.

The information that we collect is unique to each wildlife shipment and enables us to:

• Accurately inspect the contents of the shipment;

• Enforce any regulations that pertain to the fish, wildlife, or wildlife products contained in the shipment; and

• Maintain records of the importation and exportation of these commodities.

Additionally, we use information from FWS Forms 3-177 and 3-177A to compile an annual report that we provide to the CITES Secretariat in Geneva, Switzerland. This annual report on the number and types of imports and exports of fish, wildlife, and wildlife products is one of our treaty obligations under CITES. The report does not contain any personally identifying information.

We also use the information obtained from FWS Form 3-177 as an enforcement tool and management aid to monitor the international wildlife market and detect trends and changes in the commercial trade of fish, wildlife, and wildlife products. Our Division of Scientific Authority and Division of Management Authority use this information to assess the need for additional protection for native species.

The information we collect is part of a system of records covered by the Privacy Act (5 U.S.C. 552(a)).

Businesses or individuals must file FWS Forms 3-177 and 3-177a with us at the time and port where they request clearance of the import or export of wildlife or wildlife products. Our regulations allow for certain species of wildlife to be imported or exported between the United States and Canada or Mexico at U.S. Customs and Border Protection ports, even though our wildlife inspectors may not be present. In these instances, importers and exporters may file the forms with U.S. Customs and Border Protection. We collect the following information:

(1) Name of the importer or exporter and broker.

(2) Scientific and common name of the fish or wildlife.

(3) Permit numbers (if permits are required).

(4) Description, quantity, and value of the fish or wildlife.

(5) Natural country of origin of the fish or wildlife.

In addition, certain information, such as the airway bill or bill of lading number, the location of the fish or wildlife for inspection, and the number of cartons containing fish or wildlife, assists our wildlife inspectors if a physical examination of the shipment is necessary.

II. Data

OMB Control Number: 1018-0012.

Title: Declaration for Importation or Exportation of Fish or Wildlife.

Service Form Number(s): 3-177 and 3-177a.

Type of Request: Extension of a currently approved collection.

Affected Public: Businesses or individuals that import or export fish, wildlife, or wildlife products; scientific institutions that import or export fish or wildlife scientific specimens; government agencies that import or export fish or wildlife specimens for various purposes.

Respondent's Obligation: Required to obtain or retain a benefit.

Frequency of Collection: On occasion.

Activity | Number of annual respondents | Number of annual responses | Completion time per response | Annual burden hours
3-177 - Hard Copy Submission | 4,200 | 37,000 | 15 minutes | 9,250
3-177 -Electronic Submission | 16,500 | 145,000 | 10 minutes | 24,167
Totals | 20,700 | 182,000 |  | 33,417

III. Request for Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: August 6, 2009
Hope Grey,
Information Collection Clearance Officer, Fish and Wildlife Service.

FR Doc. E9-19404 Filed 8-12-09; 8:45 am

BILLING CODE 4310-55-S